PENSION BENEFIT GUARANTY CORPORATION

Information Collection; OMB Approval; Payment of Premiums

AGENCY: Pension Benefit Guaranty Corporation.

ACTION: Notice of OMB approval under the Paperwork Reduction Act.

SUMMARY: The Office of Management and Budget (“OMB”) has extended its approval, under the Paperwork Reduction Act, of a collection of information (with revisions) under the Pension Benefit Guaranty Corporation's regulation on Payment of Premiums.

FOR FURTHER INFORMATION CONTACT: Deborah C. Murphy, Attorney, Office of the General Counsel, Pension Benefit Guaranty Corporation, 1200 K Street, NW., Washington, DC 20005-4026, 202-326-4024. (For TTY and TDD, call 800-877-8339 and request connection to 202-326-4024.)

SUPPLEMENTARY INFORMATION: On October 23, 2000, the Pension Benefit Guaranty Corporation (“PBGC”) published in the Federal Register (at 65 FR 63266) a notice of its request to the Office of Management and Budget (“OMB”) for extension of approval, under the Paperwork Reduction Act, of the collection of information under the PBGC's regulation on Payment of Premiums (29 CFR Part 4007). On December 1, 2000, the PBGC published in the Federal Register (at 65 FR 75160) a final rule that affected the collection of information. In the same day's Federal Register, the PBGC published (at 65 FR 75319) a notice informing the public that the PBGC was supplementing its pending paperwork request by submitting to OMB for review and approval a revised collection of information, including revised premium forms and instructions reflecting amendments made by the final rule.

OMB has approved the PBGC's request, as so supplemented, for three years (until December 31, 2003). The control number assigned to this collection of information by OMB is 1212-0009. An agency may not conduct or sponsor, and a person is not required to respond to, a collection of information unless it displays a currently valid OMB control number.

Issued in Washington, DC, this 21st day of December, 2000.
Stuart A. Sirkin,
Director, Corporate Policy and Research Department, Pension Benefit Guaranty Corporation.

[FR Doc. 00-33311 Filed 12-28-00; 8:45 am]

BILLING CODE 7708-01-P